DEPARTMENT OF AGRICULTURE

Rural Housing Service

Notice of Funds Availability for the Section 533 Housing Preservation Grants for Fiscal Year 2014

AGENCY: Rural Housing Service, USDA.

ACTION: Notice; correction.

SUMMARY: The Rural Housing Service published a document in the Federal Register on June 11, 2014, (79 FR 33495) announcing that it is soliciting competitive applications under its Housing Preservation Grant program. The listing for the Central Contractor Registration, Rural Development Vermont State Office address, West Virginia State Office address, and Wyoming State Office telephone and TDD number were incorrectly identified in the notice.

FOR FURTHER INFORMATION CONTACT: Bonnie Edwards-Jackson, Finance and Loan Analyst, Multi-Family Housing Preservation and Direct Loan Division, USDA Rural Development, Stop 0781, 1400 Independence Avenue SW., Washington, DC 20250-0781, telephone (202) 690-0759 (voice) (this is not a toll free number) or (800) 877-8339 (TDD-Federal Information Relay Service) or via email at, Bonnie.Edwards@wdc.usda.gov.

Correction

In the Federal Register of June 11, 2014, in FR Doc. 2014-13631, on page, 33496, in the second column, the listing to register for the Central Contractor Registration should read:

3. Dun and Bradstreet Universal Numbering System (DUNS) and System for Award Management

Please note that all applicants must obtain a Dun and Bradstreet Data Universal Numbering System (DUNS) number and register, and maintain such registration, in the Central Contractor Registration (CCR) prior to submitting a pre-application pursuant to 2 CFR part 25. As required by the Office of Management and Budget (OMB), all grant applicants must provide a DUNS number when applying for Federal grants, on or after October 1, 2003. Organizations can receive a DUNS number at no cost by calling the dedicated toll-free DUNS number request line at (866) 705-5711 or by accessing http://www.dnb.com/us/. Additional information concerning this requirement is provided in a policy directive issued by OMB and published in the Federal Register on June 27, 2003 (68 FR 38402-38405). Similarly, applicants may register for the CCR at www.sam.gov.

Correction

In the Federal Register of June 11, 2014, in FR Doc. 2014-13631, on page, 33500, in the second column, the listing for the Rural Development Vermont State Office, address to contact should read:

Vermont State Office, 87 State Street, Suite 324, P.O. Box 249, Montpelier, VT 05601, (802) 828-6028, TDD (802)223-6365, Tammy Surprise.

Correction

In the Federal Register of June 11, 2014, in FR Doc. 2014-13631, on page, 33500, in the second column, the listing for the Rural Development West Virginia State Office, address to contact should read:

West Virginia State Office, 2118 Ripley Road, Ripley, West Virginia 25271, (304) 372-3441, ext. 105, TDD (304) 284-4836, Penny Thaxton.

Correction

In the Federal Register of June 11, 2014, in FR Doc. 2014-13631, on page, 33500, in the second column, the listing for the Rural Development Wyoming State Office, phone number to contact should read:

Wyoming State Office, Post Office Box 82601, Casper, Wyoming 25271, (307) 233-6720, TDD (307) 233-6733, Laura Koenig.

Dated: July 8, 2014.
Tony J. Hernandez,
Administrator, Rural Housing Service.

[FR Doc. 2014-17029 Filed 7-18-14; 8:45 am]

BILLING CODE 3410-XV-P